DEPARTMENT OF TRANSPORTATION

Federal Aviation Administration

14 CFR Part 73

[Docket No. FAA-2007-27850; Airspace Docket No. 07-ASO-5]

RIN 2120-AA66

Proposed Amendment to Restricted Areas R-3702A and R-3702B Fort Campbell, KY

AGENCY: Federal Aviation Administration (FAA), DOT.

ACTION: Notice of proposed rulemaking (NPRM).

SUMMARY: This action proposes to amend the designated altitudes of restricted areas R-3702A and R-3702B, Fort Campbell, KY, to better accommodate training requirements and provide greater access to the airspace for nonparticipating aircraft flying through the area above 10,000 feet MSL.

DATES: Comments must be received on or before June 11, 2007.

ADDRESSES: Send comments on this proposal to the Docket Management System, U.S. Department of Transportation, Room Plaza 401, 400 Seventh Street, SW., Washington, DC 20590-0001. You must identify FAA Docket No. FAA-2007-27850 and Airspace Docket No. 07-ASO-05, at the beginning of your comments. You may also submit comments through the Internet at http://dms.dot.gov.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2007-27850 and Airspace Docket No. 07-ASO-05) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2007-27850 and Airspace Docket No. 07-ASO-05.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, 1601 Lind Avenue, #14, SW., Renton, WA 98055.

Persons interested in being placed on a mailing list for future NPRM's should contact the FAA's Office of Rulemaking, (202) 267-9677, for a copy of Advisory Circular No. 11-2A, Notice of Proposed Rulemaking Distribution System, which describes the application procedure.

Background

R-3702A and R-3702B were established to contain a variety of hazardous activities involving both ground-based and aircraft weapons systems. Currently, R-3702A extends from ground level up to and including 6,000 feet MSL. R-3702B overlies R-3702A and extends from 6,000 feet MSL to Flight Level (FL) 220. A third subdivision, restricted area R-3702C, overlies R-3702A and B, and extends from FL 220 to FL 270, but is not affected by this proposed action.

Hazardous training operations conducted in these areas only require restricted airspace up to 10,000 feet MSL. However, under the current configuration, R-3702A only extends up to 6,000 feet MSL. Therefore, to provide protection when hazardous training operations are being conducted at 10,000 feet MSL and below, R-3702B must also be activated. This results in periods when the airspace between 11,000 feet MSL and FL 220 is being unnecessarily restricted and unavailable for transit by nonparticipating aircraft. Resetting the altitude boundary between R-3702A and R-3702B at 10,000 feet MSL instead of 6,000 feet MSL, would permit more efficient airspace management and allow air traffic control (ATC) to provide better service to civil aircraft in that area.

The Proposal

The FAA is proposing to amend Title 14 Code of Federal Regulations (14 CFR) part 73 to realign the designated altitudes of restricted areas R-3702A and R-3702B at Fort Campbell, KY. The proposal would change the designated altitudes for R-3702A from “surface to 6,000 feet MSL,” to “surface to 10,000 feet MSL.” In addition, the designated altitudes for R-3702B would be changed from “6,000 feet MSL to FL 220,” to “10,000 feet MSL to FL 220.” The proposed change would permit Fort Campbell to conduct training that involves hazardous operations not exceeding 10,000 feet MSL without unnecessarily restricting aircraft from transiting the area at higher altitudes. This change would allow ATC to provide better service to nonparticipating aircraft in the area.

Section 73.37 of Title 14 CFR part 73 was republished in FAA Order 7400.8N, dated February 16, 2007.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to the appropriate environmental analysis in accordance with FAA Order 1050.1E, Environmental Impacts: Policies and Procedures, prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.37 [Amended]

2. Section 73.37 is amended as follows:

* * * * *

R-3702A Fort Campbell, KY [Amended]

Under Designated altitudes, by removing the words “Surface to 6,000 feet MSL,” and inserting the words “Surface to 10,000 feet MSL.”

* * * * *

R-3702B Fort Campbell, KY [Amended]

Under Designated altitudes, by removing the words “6,000 feet MSL to FL 220,” and inserting the words “10,000 feet MSL to FL 220.”

* * * * *

Issued in Washington, DC, April 20, 2007.
Paul Gallant,
Acting Manager, Airspace and Rules Group.

[FR Doc. E7-8020 Filed 4-25-07; 8:45 am]

BILLING CODE 4910-13-P